DEPARTMENT OF AGRICULTURE

Food and Nutrition Service

7 CFR Part 246

RIN 0584-AD77

Special Supplemental Nutrition Program for Women, Infants and Children (WIC): Revisions in the WIC Food Packages; Approval of Information Collection Request

AGENCY: Food and Nutrition Service, USDA.

ACTION: Final rule; Notice of approval of Information Collection Request (ICR).

SUMMARY: The rule titled Special Supplemental Nutrition Program for Women, Infants and Children (WIC): Revisions in the WIC Food Packages was published on March 4, 2014. The Office of Management and Budget cleared the associated information collection requirements (ICR) on April 14, 2014. This document announces approval of the ICR.

DATES: The ICR associated with the rule published in the Federal Register on March 4, 2014, at 79 FR 12273, was approved by OMB on April 14, 2014, under OMB Control Number 0584-0043.

FOR FURTHER INFORMATION CONTACT: Anne Bartholomew, Chief, Nutrition Services Branch, Supplemental Food Programs Division, Food and Nutrition Service, USDA, 3101 Park Center Drive, Room 522, Alexandria, Virginia 22302, (703) 305-2746 or anne.bartholomew@fns.usda.gov.

Dated: April 28, 2014.
Audrey Rowe,
Administrator, Food and Nutrition Service.

[FR Doc. 2014-10160 Filed 5-1-14; 8:45 am]

BILLING CODE 3410-30-P